ENVIRONMENTAL PROTECTION AGENCY

[ER-FRL-9047-7]

Environmental Impact Statements; Notice of Availability

Responsible Agency: Office of Federal Activities, General Information 202-564-5632 or https://www.epa.gov/nepa/.

Weekly receipt of Environmental Impact Statements

Filed 10/21/2019 10 a.m. ET Through 10/28/2019 10 a.m. ET

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190261, Draft, USAF, NM, Special Use Airspace Optimization Holloman Air Force Base, New Mexico, Comment Period Ends: 12/16/2019, Contact: Robin Divine 210-925-2730

EIS No. 20190262, Draft, USFWS, CA, Fort Ord Multi-Species Habitat Conservation Plan Public Draft EIS/EIR, Comment Period Ends: 12/16/2019, Contact: Steve Henry 805-644-1766

EIS No. 20190263, Final Supplement, NRC, FL, Generic Environmental Impact Statement for License Renewal of Nuclear Plants, Supplement 5, Second Renewal, Regarding Subsequent License Renewal for Turkey Point Nuclear Generating Unit Nos. 3 and 4, Review Period Ends: 12/02/2019, Contact: Robert Schaaf 301-415-6020

EIS No. 20190264, Final, APHIS, PRO, Rangeland Grasshopper and Mormon Cricket Suppression Program, Review Period Ends: 12/02/2019, Contact: Jim Warren 202-316-3216

EIS No. 20190265, Final, BIA, BLM, OK, Oklahoma, Kansas and Texas Final Joint EIS, BLM RMP, and BIA Integrated RMP, Review Period Ends: 12/31/2019, Contact: Patrick Rich 405-579-7154

EIS No. 20190266, Draft, BLM, CA, Crimson Solar Project Draft Environmental Impact Statement and Environmental Impact Report and Draft Land Use Plan Amendment to the California Desert Conservation Area Plan, Comment Period Ends:01/30/2020, Contact: Miriam Liberatore 541-618-2412

EIS No. 20190267, Final Supplement, BLM, CA, Bakersfield Field Office Hydraulic Fracturing Final Supplemental EIS, Review Period Ends: 12/02/2019, Contact: Carly Summers 661-391-6000

Amended Notice

EIS No. 20190239, Draft, USFWS, OR, Deschutes Basin Habitat Conservation Plan, Comment Period Ends:12/03/2019, Contact: Bridget Moran 541-383-7146. Revision to FR Notice Published 10/04/2019; Extending the Comment Period from 11/18/2019 to 12/03/2019.

Dated: October 28, 2019.
Robert Tomiak,
Director, Office of Federal Activities.

[FR Doc. 2019-23877 Filed 10-31-19; 8:45 am]

BILLING CODE 6560-50-P